DEPARTMENT OF HEALTH AND HUMAN SERVICES

National Institutes of Health

Office of the Director; Notice of Meeting

Notice is hereby given of a meeting of the Big Data to Knowledge Multi-Council Working Group.

The teleconference meeting will be open to the public as indicated below. Individuals who plan to attend and need assistance should notify the contact person listed below in advance of the meeting.

Name of Working Group: Big Data to Knowledge Multi-Council Working Group.

Date: September 1, 2016.

Open Session: 11:00 a.m.-12:00 p.m. (Eastern Daylight Savings Time).

Agenda: Discussion will review current Big Data to Knowledge (BD2K) activities and newly proposed BD2K initiatives. Open session presentations include BD2K Update and BD2K -Implementation of the Commons.

Place: Teleconference, Call Number: 1-877-668-4493, Passcode: 627 186 653.

This meeting is open to the public but is being held by teleconference only. No physical meeting location is provided for any interested individuals to listen to committee discussions. Any individual interested in listening to the meeting discussions must call: 1-877-668-4493 and use Passcode: 627 186 653 for access to the meeting.

Closed Session: 12:10 p.m.-3:30 p.m.

Agenda: Discussion will focus on review of proposed Funding Plans for BD2K Funding Opportunity Announcements.

Contact Person: Tonya Scott, Scientific Program Analyst, Office of the Associate Director of Data Science (ADDS), National Institutes of Health, One Center Drive, Room 325, Bethesda, Maryland 20892, email: tonya.scott@nih.gov, Telephone: 301-402-9817.

Information is also available on the Office of the Associate Director for Data Science's home page: https://datascience.nih.gov/index where an agenda and any additional information for the meeting will be posted when available.

Dated: August 5, 2016.
Anna Snouffer,
Deputy Director, Office of Federal Advisory Committee Policy.

[FR Doc. 2016-19047 Filed 8-10-16; 8:45 am]

BILLING CODE 4140-01-P